DEPARTMENT OF COMMERCE

National Oceanic and Atmospheric Administration

Requesting Nominations for the Marine Protected Areas Federal Advisory Committee; Notice of Public Meeting

AGENCY: National Marine Protected Areas Center, Office of National Marine Sanctuaries, National Ocean Service, National Oceanic and Atmospheric Administration, U.S. Department of Commerce.

ACTION: Notice and request for nominations and notice of public meeting.

SUMMARY: The Department of Commerce (Department) is seeking nominations for membership on the Marine Protected Areas Federal Advisory Committee (Committee). The Committee advises the Secretary of Commerce and the Secretary of the Interior in implementing Section 4 of Executive Order 13158, specifically on strategies and priorities for developing the national system of marine protected areas (MPAs) and on practical approaches to further enhance and expand protection of new and existing MPAs. Nominations are sought for highly qualified non-Federal scientists, resource managers, and people representing other interests or organizations involved with or affected by marine protected areas including in the Great Lakes. Ten members of the Committee have terms that expire June 30, 2014, and nominations are sought to fill these vacancies.

DATES:

Nominations: Nominations must be received on or before May 30, 2014.

Meeting: The Committee will meet at the Flower Garden Banks National Marine Sanctuary office in Galveston, Texas on June 2 from 9:00 a.m. to 5:30 p.m., June 3 from 9:00 a.m. to 5:00 p.m. and June 4 from 9:00 a.m. to 12:00 p.m. These times and the agenda items below are subject to change. For the most recent agenda, see: http://marineprotectedareas.noaa.gov/fac/meetings/

ADDRESSES: Nominations: Nominations should be sent to Nicole Capps at West Coast Region, Office of National Marine Sanctuaries, 99 Pacific Street, Suite 100F, Monterey, CA, 93940, or Nicole.capps@noaa.gov. Electronic submissions are acceptable.

Meeting: Flower Garden Banks National Marine Sanctuary, NOAA Galveston Lab, 4700 Avenue U, Building 216, Galveston, Texas.

FOR FURTHER INFORMATION CONTACT: Lauren Wenzel, National Marine Protected Areas Center, 301-713-7265, lauren.wenzel@noaa.gov.

SUPPLEMENTARY INFORMATION: Executive Order 13158 directed the Department of Commerce and the Department of the Interior to seek the expert advice and recommendations of non-federal scientists, resource managers, and other interested people and organizations through a Marine Protected Areas Federal Advisory Committee (Committee). The Committee was established in June 2003 and includes 20 members.

The Committee meets at least twice annually; meetings may be in person or via teleconference/webinar. Committee members serve one, four-year nonrenewable term. Members of the Committee are not compensated for their time, but their travel expenses associated with attending Committee meetings are reimbursed.

Nominations: Anyone is eligible to nominate and self-nominations will be accepted. Each nomination submission should include Nominations should provide: (1) The nominee's full name, title, institutional affiliation, and contact information; (2) the nominee's area(s) of expertise;(3) a short description of his/her qualifications relative to the kinds of advice being solicited, and (4) a resume or CV not to exceed four pages in length. Nominations may choose to include letters of support (no more than three) describing the nominee's qualifications and interest in serving on the Committee. The intent is to select from the nominees; however, NOAA retains the prerogative to nominate people to the Committee that were not nominated through the process outlined in this FRN if it deems it is necessary to achieve the desired balance. Once selected, Committee members' names will be posted at: http://marineprotectedareas.noaa.gov/fac/.

Individuals seeking membership on the Committee should possess demonstrable expertise in a related field or represent a stakeholder interest in MPAs. Nominees also will be evaluated based on the following factors: marine policy experience; leadership and organizational skills; region of country represented; and member demographics. The membership reflects the Department's commitment to attaining balance and diversity. The full text of the Committee charter and its current membership can be viewed at the Agency's Web page at http://marineprotectedareas.noaa.gov.

Meeting: The meeting is open to the public, and public comment will be accepted from 4:30 p.m. to 5:30 p.m. on Monday, June 2, 2014. In general, each individual or group will be limited to a total time of five (5) minutes. If members of the public wish to submit written statements, they should be submitted by May 29, 2014 to lauren.wenzel@noaa.gov.

The focus of the Committee's meeting will be the completion of recommendations to the Departments of Commerce and the Interior that address the Committee's charge related to enhancing and managing recreational activities in MPAs and expanding stakeholder engagement. The Committee will meet with representatives from National Marine Sanctuary Advisory Councils to discuss fostering links between MPA programs on issues of common interest. The agenda will be posted at http://marineprotectedareas.noaa.gov/fac/meetings/.

Dated: March 26, 2014.
Daniel J. Basta,
Director, Office of National Marine Sanctuaries, National Ocean Service, National Oceanic and Atmospheric Administration.

[FR Doc. 2014-07204 Filed 3-31-14; 8:45 am]

BILLING CODE 3510-NK-P